DEPARTMENT OF AGRICULTURE

Animal and Plant Health Inspection Service

[Docket No. APHIS-2016-0060]

International Sanitary and Phytosanitary Standard-Setting Activities

AGENCY: Animal and Plant Health Inspection Service, USDA.

ACTION: Notice and request for comments.

SUMMARY: In accordance with legislation implementing the results of the Uruguay Round of negotiations under the General Agreement on Tariffs and Trade, we are informing the public of the international standard-setting activities of the World Organization for Animal Health, the Secretariat of the International Plant Protection Convention, and the North American Plant Protection Organization, and we are soliciting public comment on the standards to be considered.

ADDRESSES: You may submit comments by either of the following methods:

• Federal eRulemaking Portal: Go to http://www.regulations.gov/#!docketDetail;D=APHIS-2016-0060.

• Postal Mail/Commercial Delivery: Send your comment to Docket No. APHIS-2016-0060, Regulatory Analysis and Development, PPD, APHIS, Station 3A-03.8, 4700 River Road Unit 118, Riverdale, MD 20737-1238.

Supporting documents and any comments we receive on this docket may be viewed at http://www.regulations.gov/#!docketDetail;D=APHIS-2016-0060 or in our reading room, which is located in room 1141 of the USDA South Building, 14th Street and Independence Avenue SW., Washington, DC. Normal reading room hours are 8 a.m. to 4:30 p.m., Monday through Friday, except holidays. To be sure someone is there to help you, please call (202) 7997039 before coming.

FOR FURTHER INFORMATION CONTACT: For general information on the topics covered in this notice, contact Ms. Jessica Mahalingappa, Assistant Deputy Administrator for Trade and Capacity Building, International Services, APHIS, room 1132, USDA South Building, 14th Street and Independence Avenue SW., Washington, DC 20250; (202) 799-7121.

For specific information regarding standard-setting activities of the World Organization for Animal Health, contact Dr. Michael David, Director, International Animal Health Standards Team, National Import Export Services, VS, APHIS, 4700 River Road Unit 33, Riverdale, MD 20737-1231; (301) 851-3302.

For specific information regarding the standard-setting activities of the International Plant Protection Convention, contact Dr. Marina Zlotina, PPQ's IPPC Technical Director, International Phytosanitary Standards, PPQ, APHIS, 4700 River Road Unit 130, Riverdale, MD 20737; (301) 851-2200.

For specific information on the North American Plant Protection Organization, contact Ms. Patricia Abad, PPQ's NAPPO Technical Director, International Phytosanitary Standards, PPQ, APHIS, 4700 River Road Unit 130, Riverdale, MD, 20737; (301) 851-2264.

SUPPLEMENTARY INFORMATION:

Background

The World Trade Organization (WTO) was established as the common international institutional framework for governing trade relations among its members in matters related to the Uruguay Round Agreements. The WTO is the successor organization to the General Agreement on Tariffs and Trade. U.S. membership in the WTO was approved by Congress when it enacted the Uruguay Round Agreements Act (Pub. L. 103-465), which was signed into law on December 8, 1994. The WTO Agreements, which established the WTO, entered into force with respect to the United States on January 1, 1995. The Uruguay Round Agreements Act amended Title IV of the Trade Agreements Act of 1979 (19 U.S.C. 2531 et seq.). Section 491 of the Trade Agreements Act of 1979, as amended (19 U.S.C. 2578), requires the President to designate an agency to be responsible for informing the public of the sanitary and phytosanitary (SPS) standard-setting activities of each international standard-setting organization. The designated agency must inform the public by publishing an annual notice in the Federal Register that provides the following information: (1) The SPS standards under consideration or planned for consideration by the international standard-setting organization; and (2) for each SPS standard specified, a description of the consideration or planned consideration of that standard, a statement of whether the United States is participating or plans to participate in the consideration of that standard, the agenda for U.S. participation, if any, and the agency responsible for representing the United States with respect to that standard.

“International standard” is defined in 19 U.S.C. 2578b as any standard, guideline, or recommendation: (1) Adopted by the Codex Alimentarius Commission (Codex) regarding food safety; (2) developed under the auspices of the World Organization for Animal Health (OIE, formerly known as the Office International des Epizooties) regarding animal health and welfare, and zoonoses; (3) developed under the auspices of the Secretariat of the International Plant Protection Convention (IPPC) in cooperation with the North American Plant Protection Organization (NAPPO) regarding plant health; or (4) established by or developed under any other international organization agreed to by the member countries of the North American Free Trade Agreement (NAFTA) or the member countries of the WTO.

The President, pursuant to Proclamation No. 6780 of March 23, 1995 (60 FR 15845), designated the Secretary of Agriculture as the official responsible for informing the public of the SPS standard-setting activities of Codex, OIE, IPPC, and NAPPO. The United States Department of Agriculture's (USDA's) Food Safety and Inspection Service (FSIS) informs the public of Codex standard-setting activities, and USDA's Animal and Plant Health Inspection Service (APHIS) informs the public of OIE, IPPC, and NAPPO standard-setting activities.

FSIS publishes an annual notice in the Federal Register to inform the public of SPS standard-setting activities for Codex. Codex was created in 1962 by two United Nations organizations, the Food and Agriculture Organization (FAO) and the World Health Organization. It is the major international organization for encouraging international trade in food and protecting the health and economic interests of consumers.

APHIS is responsible for publishing an annual notice of OIE, IPPC, and NAPPO activities related to international standards for plant and animal health and representing the United States with respect to these standards. Following are descriptions of the OIE, IPPC, and NAPPO organizations and the standard-setting agenda for each of these organizations. We have described the agenda that each of these organizations will address at their annual general sessions, including standards that may be presented for adoption or consideration, as well as other initiatives that may be underway at the OIE, IPPC, and NAPPO.

The agendas for these meetings are subject to change, and the draft standards identified in this notice may not be sufficiently developed and ready for adoption as indicated. Also, while it is the intent of the United States to support adoption of international standards and to participate actively and fully in their development, it should be recognized that the U.S. position on a specific draft standard will depend on the acceptability of the final draft. Given the dynamic and interactive nature of the standard-setting process, we encourage any persons who are interested in the most current details about a specific draft standard or the U.S. position on a particular standard-setting issue, or in providing comments on a specific standard that may be under development, to contact APHIS. Contact information is provided at the beginning of this notice under FOR FURTHER INFORMATION CONTACT.

OIE Standard-Setting Activities

The OIE was established in Paris, France, in 1924 with the signing of an international agreement by 28 countries. It is currently composed of 180 Members, each of which is represented by a delegate who, in most cases, is the chief veterinary officer of that country or territory. The WTO has recognized the OIE as the international forum for setting animal health standards, reporting global animal disease events, and presenting guidelines and recommendations on sanitary measures relating to animal health.

The OIE facilitates intergovernmental cooperation to prevent the spread of contagious diseases in animals by sharing scientific research among its Members. The major functions of the OIE are to collect and disseminate information on the distribution and occurrence of animal diseases and to ensure that science-based standards govern international trade in animals and animal products. The OIE aims to achieve these through the development and revision of international standards for diagnostic tests, vaccines, and the safe international trade of animals and animal products.

The OIE provides annual reports on the global distribution of animal diseases, recognizes the free status of Members for certain diseases, categorizes animal diseases with respect to their international significance, publishes bulletins on global disease status, and provides animal disease control guidelines to Members. Various OIE commissions and working groups undertake the development and preparation of draft standards, which are then circulated to Members for consultation (review and comment). Draft standards are revised accordingly and are then presented to the OIE World Assembly of Delegates (all the Members) during the General Session, which meets annually every May, for review and adoption. Adoption, as a general rule, is based on consensus of the OIE membership.

The next OIE General Session is scheduled for May 21 to May 26, 2017, in Paris, France. Currently, the Chief Trade Advisor for APHIS' Veterinary Services program is the official U.S. Delegate to the OIE. The Chief Trade Advisor for APHIS' Veterinary Services program intends to participate in the proceedings and will discuss or comment on APHIS' position on any standard up for adoption. Information about OIE draft Terrestrial and Aquatic Animal Health Code chapters may be found on the Internet at http://www.aphis.usda.gov/animal-health/export-animals-oie or by contacting Dr. Michael David (see FOR FURTHER INFORMATION CONTACT above).

OIE Terrestrial and Aquatic Animal Health Code Chapters Adopted during the May 2016 General Session.

More than 26 Code chapters were amended, rewritten, or newly proposed and presented for adoption at the General Session. The following Code chapters are of particular interest to the United States:

1. Glossary

Text was not changed in this Code chapter for the definition of “casings.” The proposal to include esophagi and stomachs in the definition of “casings” was rejected because these contain striated muscle, which is not used in the production of casings.

2. User's Guide

Text in this Code chapter was modified for clarity.

3. Chapter 1.1., Notification of diseases, Infections, Infestations and Provision of Epidemiological information

Text in this Code chapter was modified for clarity and consistency.

4. Chapter 1.2., Criteria for the Inclusion of Diseases, Infections, and Infestations Listed by the OIE

Text in this Code chapter was modified for clarity and consistency.

5. Chapter 1.2., Criteria for the Inclusion of Diseases, Infections and Infestations in the OIE List

Text in this Code chapter was modified for clarity and consistency.

6. Chapter 1.3., Prescribed and alternative Diagnostic tests

This Code chapter was deleted from the Terrestrial Code because the noted tests are included in the Terrestrial Manual.

7. Chapter 3.2, Evaluation of Veterinary Services

A minor change was adopted and approved by Member Countries.

8. Chapter 6.8., Monitoring of the Quantities and Usage Patterns of Antimicrobial Agents in Food Producing Animals

The text in this chapter was modified to clarify the therapeutic use of antimicrobial agents means the administration of antimicrobial agents to animals for treating and controlling infectious diseases.

9. Chapter 7.5., Slaughter of Animals

The diagrams of the heads of animals detailing the specific locations for the use of captive bolts for the purpose of slaughtering were proposed for removal from the chapter. The diagrams are to be relocated to the OIE Web site.

10. Chapter 7.6., Killing of Animals for Disease Control Purposes

References to the use of penetrating and non-penetrating captive bolts as procedures for killing adult poultry were added.

11. Chapter 7.10., Animal Welfare and Broiler Chicken Production Systems

Some outcome-based measurables were added, as well as minor editorial changes.

12. Chapter 7.11, Animal Welfare and Dairy Cattle Production Systems

This Code chapter includes prescriptive language regarding the housing of dairy cattle to which the United States continues to object and challenge.

13. Chapter 7.X., Welfare of Working Equids

This is a new Code chapter that was adopted this year. The United States noted an area of concern that will be considered by the Code Commission for future review.

14. Chapter 8.3., Infection with Bluetongue Virus

The current chapter received minor updates that were adopted.

15. Chapter 8.7., Infection with Epizootic Hemorrhagic Disease Virus

This chapter was adopted in 2015 and received minor updates to make it consistent with other vector borne diseases.

16. Chapter 8.13., Infection with Rift Valley Fever virus

Minor changes were made to create harmonization among the vector-borne disease chapters.

17. Chapter 8.16., Infection with Trichinella spp.

A minor addition referencing the pertinent Codex Guideline was made and the chapter was adopted.

18. Chapter 14.7., Infection with Peste des Petits Ruminants Virus

An editorial change was made to correct an error in Article 14.7.21. and the chapter was adopted.

19. Chapter 15.X., Infection with Taenia solium

An addition referencing the prevention of T. solium in humans was made and the chapter was adopted.

The following Aquatic Manual chapters were revised and adopted, and are of particular interest to the United States:

Chapter 2.2.2. Infectious hypodermal and haematopoietic necrosis

Chapter 2.2.4. Necrotising hepatopancreatitis

Chapter 2.2.5. Taura syndrome

Chapter 2.2.8. Infection with yellow head virus

Chapter 2.4.7. Infection with Perkinsus olseni

OIE Terrestrial Animal Health Code Chapters for Upcoming and Future Review

• Glossary.

• Chapter 1.4., Animal health surveillance.

• Chapter 2.X., Criteria for assessing the safety of commodities.

• Chapter 4.3., Zoning and compartmentalization.

• Chapter 4.16., High Health Status Horse Subpopulation.

• Chapter 5.3., OIE procedures relevant to the WTO/SPS Agreement.

• Chapter 6.1., The role of veterinary services in food safety.

• Chapter 6.X., Prevention and control of Salmonella in commercial cattle production systems.

• Chapter 6.Y., Prevention and control of Salmonella in commercial cattle production systems.

• Chapter 7.5., Slaughter of animals.

• Chapter 8.8., Foot and mouth disease virus.

• Chapter 8.X., Infection with Mycobacterium tuberculosis complex.

• Chapter 10.4., Infection with avian influenza virus.

• Chapter 10.5., Avian mycoplasmosis (Mycoplasma gallisepticum).

• Chapter 11.11., Infection with lumpy skin disease.

• Chapter 12.10., Glanders.

• Chapter 15.1., Infection with African swine fever virus.

• Chapter 15.X., Infection with porcine reproductive and respiratory syndrome virus.

IPPC Standard-Setting Activities

The IPPC is a multilateral convention adopted in 1952 for the purpose of securing common and effective action to prevent the spread and introduction of pests of plants and plant products and to promote appropriate measures for their control. The WTO has recognized the IPPC as the standard setting body for plant health. Under the IPPC, the understanding of plant protection has been, and continues to be, broad, encompassing the protection of both cultivated and non-cultivated plants from direct or indirect injury by plant pests. Activities addressed by the IPPC include the development, adoption and implementation of international phytosanitary (or plant health) standards (ISPMs), the harmonization of phytosanitary activities through emerging standards, the facilitation of the exchange of official and scientific information among countries, and the furnishing of technical assistance to developing countries that are contracting parties to the IPPC.

The IPPC is deposited with the Food and Agriculture Organization (FAO), and is an international agreement of 182 contracting parties (CPs). The Convention is implemented by national plant protection organizations (NPPOs) in cooperation with regional plant protection organizations (RPPOs), the Commission on Phytosanitary Measures (CPM), and the Secretariat of the IPPC. The IPPC has been, and continues to be, administered at the national level by plant quarantine officials whose primary objective is to safeguard plant resources from injurious pests. In the United States, the NPPO is APHIS' Plant Protection and Quarantine (PPQ) program.

The Eleventh Session of the CPM took place from April 4 to 8, 2016, at FAO Headquarters in Rome, Italy. The Deputy Administrator for APHIS' PPQ program was the U.S. delegate to the CPM. The Deputy Administrator participated in the proceedings and discussed or commented on APHIS' position on any standards up for adoption.

The following standards were adopted by the CPM at its 2016 meeting. The United States, represented by the Deputy Administrator for APHIS' PPQ program, participated in consideration of these standards. The U.S. position on each of these issues were developed prior to the CPM session and were based on APHIS' analysis, information from other U.S. Government agencies, and relevant scientific information from interested stakeholders:

• Revisions to ISPM 5: Glossary of Phytosanitary Terms

• ISPM 37: Determination of host status of fruit to fruit flies (Tephritidae)

• Annexes to ISPM 28: Phytosanitary treatments:

○ 20: Irradiation treatment for Ostrinia nubilalis

○ 21: Vapor heat treatment for Bactrocera melanotus and B. xanthodes on Carica papaya

• Annexes to ISPM 27: Diagnostic Protocols

○ 08: Ditylenchus dipsaci and D. destructor

○ 09: Genus Anastrepha Schiner

○ 10: Bursaphelenchus xylophilus

○ 11: Xiphinema americanum sensu lato

○ 12: Phytoplasmas

Other APHIS key achievements from the 2016 CPM meeting were:

• Continued development of a global electronic phytosanitary system, including to proceed with a pilot study immediately with 14 selected countries, including the United States;

• Worked towards an International Year of Plant Health (IYPH) in 2020, including the establishment of a steering committee to plan and guide the process for securing a United Nations proclamation for an IYPH and to identify and plan plant health activities and events that will occur in the lead up to and during the international year. The United States will be an active supporter of this initiative;

• Established a focus group to analyze, develop, and recommend a coherent IPPC program aimed at improving the implementation of adopted standards and to recommend an appropriate committee to oversee this new area of work at the IPPC;

• Held a special CPM session on phytosanitary risks of sea containers where the CPs agreed to temporarily suspend work on an international standard on sea containers, but consider other actions that IPPC contracting parties can take to continue addressing the sea container pathway for the introduction of plant pests; and

• Agreed on a path forward on commodity specific standards, which allows countries interested in such standards to resubmit proposals for such work.

New Standard-Setting Initiatives, Including Those in Development

A number of expert working group (EWG) meetings or other technical consultations took place during 2016 on the topics listed below. These standard-setting initiatives are under development and may be considered for future adoption. APHIS intends to participate actively and fully in each of these working groups. The U.S. position on each of the topics to be addressed by these various working groups will be developed prior to these working group meetings and will be based on APHIS' technical analysis, information from other U.S. Government agencies, and relevant scientific information from interested stakeholders:

• EWG on the international movement of grain

• Technical Panel on Fruit Flies

• Technical Panel for the Glossary of Phytosanitary Terms

• Technical Panel on Diagnostic Protocols

• Technical Panel on Phytosanitary Treatments

• Technical Panel on Forest Quarantine

For more detailed information on the above, contact Dr. Marina Zlotina (see FOR FURTHER INFORMATION CONTACT above).

APHIS posts links to draft standards on the Internet as they become available and provides information on the due dates for comments.¹ Additional information on IPPC standards (including the standard setting process and adopted standards) is available on the IPPC Web site.² For the most current information on official U.S. participation in IPPC activities, including U.S. positions on standards being considered, contact Dr. Marina Zlotina (see FOR FURTHER INFORMATION CONTACT above). Those wishing to provide comments on any of the areas of work being undertaken by the IPPC may do so at any time by responding to this notice (see ADDRESSES above) or by providing comments through Dr. Zlotina.

¹ For more information on the IPPC draft ISPM member consultation: https://www.aphis.usda.gov/aphis/ourfocus/planthealth/sa_international/sa_phytostandards/ct_draft_standards.

² IPPC Web site: https://www.ippc.int/.

NAPPO Standard-Setting Activities

NAPPO, a regional plant protection organization created in 1976 under the IPPC, coordinates the efforts among the United States, Canada, and Mexico to protect their plant resources from the entry, establishment, and spread of harmful plant pests, while facilitating intra- and inter-regional trade. NAPPO conducts its work through priority-driven, annual projects conducted by expert groups. Project results and updates are provided during the NAPPO annual meeting. The NAPPO Executive Committee issues a call for project proposals, in general, each year. Projects can include the development of positions, policies, or technical documents, or the development or revision of regional standards for phytosanitary measures (RSPMs). Projects can also include implementation of standards or other capacity development activities such as workshops. After the NAPPO region selects the projects for the year, per approval of NAPPO's Executive Committee, expert groups are formed with subject matter experts from each member country, as well as representatives from key industries or commodity groups (e.g. nursery, seed, forestry, grains, potato, citrus, etc.). In the United States, draft standards are circulated to industry, States, and various government agencies for consideration and comment. The draft documents are posted on the NAPPO Web site.³ Once revisions are made, the updated draft is sent to the NAPPO Advisory and Management Committee for technical review, and then to the Executive Committee for final approval, which is granted by consensus.

³ NAPPO Web site: http://www.nappo.org/.

The 40th NAPPO annual meeting was held October 31 to November 3, 2016, in Montreal, Canada. The NAPPO Executive Committee meetings took place on October 31, 2016. The Deputy Administrator for PPQ is the U.S. member of the NAPPO Executive Committee.

Below is a summary of the current NAPPO work program as it relates to the ongoing development of NAPPO standards and projects. The United States (i.e., USDA/APHIS) intends to participate actively and fully in the NAPPO work program. The U.S. position on each topic will be guided and informed by the best scientific information available. For each of the following, the United States will consider its position on any draft standard after it reviews a prepared draft. Information regarding the following NAPPO projects, assignments, activities, and updates on meeting times and locations may be obtained from the NAPPO Web site or by contacting Ms. Patricia Abad (see FOR FURTHER INFORMATION CONTACT above).

The 2016 work program includes the following topics being worked on by NAPPO expert groups:

1. Asian Gypsy Moth: Validate specified risk periods for regulated Asian gypsy moth (AGM) in countries of origin. Review available data in AGM-regulated countries to determine whether any changes in specified risk period for oviposition, flight, and establishment of AGM should be considered and whether such changes would potentially have an impact on the requirements of the vessel certification program.

2. Biological Control: Develop an online English course to provide training on preparing a petition for first release of an entomophagous biological control agent. Adapt into an online module the material used for the 2015 NAPPO workshop on the topic, which was based on the requirements outlined in NAPPO RSPM 12, Guidelines for petition for first release of non-indigenous entomophagous biological control agents. This online course was completed in October 2016.

3. Electronic Phytosanitary Certification: Provide assistance and technical support to the IPPC ePhyto Steering Group. Provide input to the IPPC ePhyto Steering Group, especially to help address mechanisms of exchange, security and secure transmission, and standardization of data.

4. Forestry: Organize a multi-region conference on ISPM 15 implementation, following the recommendation that came out of the NAPPO-Asia and Pacific Plant Protection Commission (APPPC) workshop. In 2016, NAPPO partnered with the Inter-American Institute for Cooperation on Agriculture (IICA) and other regional plant protection organizations (RPPOs) in the Americas to hold a regional workshop aimed at enhancing global compliance with the international standard for wood packaging materials (known as ISPM 15) and thereby further reduce the threat of wood and forest pests in trade. The workshop was held at IICA Headquarters in San Jose, Costa Rica, from August 29 to September 2, 2016. Approximately 40 plant health government and industry experts representing 18 countries in the Americas attended the event in addition to 14 officials who organized, presented, and/or supported logistics. The workshop provided an opportunity for participants to interact and share experiences and approaches to improve the global implementation ISPM 15, as well as to develop follow-up steps aimed to enhance implementation. The event also included a site visit near San Jose to observe a demonstration of the process for inspecting wood based on the standard.

Develop a NAPPO standard on the potential use of systems approaches to manage pest risks associated with the movement of wood. Develop an integrated measures approach which may include: inspections (at harvest, during production, prior to and or following export), prescribed production activities; laboratory diagnostics; the application of treatments; the relationship between infested areas and pest free areas and general aspects of surveillance. The specification for this standard was approved by NAPPO in 2015.

5. Grain: Finalize the review of RSPM 13, Guidelines to establish, maintain and verify Karnal bunt pest free areas in North America. Reach consensus on how to manage the issue of pest free areas in this case in order to finalize the revision of the standard. On July 6, 2016, NAPPO's Executive Committee approved and signed a revised version of the standard developed by the expert group, thereby completing this project.

Develop a NAPPO discussion document in preparation for the IPPC Expert Working Group tasked with the development of an ISPM on International Movement of Grain. On August 12, 2016, NAPPO submitted a discussion document to the IPPC on the shared perspectives of NAPPO member countries on this topic.

Develop a NAPPO discussion document on a North American approach to preventing introduction, establishment, and spread of Khapra beetle (Trogoderma granarium) in various pathways. Evaluate each NAPPO country's current regulatory approach to khapra beetle (prevention, detection, and response) to identify similarities, differences and gaps and determine the feasibility of closing gaps and streamlining the approach.

6. Lymantriids: Develop a NAPPO Science and Technology paper on the risks associated with Lymantriids of potential concern to the NAPPO region, identifying potential species and pathways of concern. Continue the development of a comprehensive examination of Lymantriids to identify species of potential concern to North America which may travel on the same pathway as AGM in order to help inform regulatory decisionmaking by all NAPPO member countries.

7. Phytosanitary Alert System: Manage the NAPPO pest reporting system (Phytosanitary Alert System-PAS). Meet reporting obligations under the IPPC and facilitate awareness, detection, prevention, and management of exotic plant pest species within North America.

8. Advancing key phytosanitary concepts: Prepare a discussion document on diversion from intended use. Clearly organize the concepts of diversion from intended use into a discussion document to serve as future reference. The reference document was presented to the NAPPO Executive Committee on October 31, 2016.

Provide guidance on assessing the likelihood of establishment component of a pest risk analysis (PRA) for quarantine pests. Assess feasibility of developing harmonized regional guidance to assess the likelihood of pest establishment when developing a PRA. The results are aimed to refocus the application of risk management measures on only those pests that are likely to cause harm. During the first half of 2016, upon thorough assessment of relevant standards and existing guidance, the expert group determined that existing guidance was adequate. Therefore, the expert group proposed a change in project scope, approved by the NAPPO Executive Committee in July 6, 2016, to instead develop a NAPPO discussion paper on interpretation of existing guidance in standards for the evaluation of the likelihood of establishment in PRAs.

Organize an international symposium on inspection sampling to support proper and harmonized implementation of ISPMs 23 (Guidelines for Inspection) and 31 (Methodologies for sampling of consignments) in the NAPPO region and internationally. The international symposium on risk-based sampling, targeted to take place in the summer of 2017, will examine the relevant scientific and statistical concepts associated with inspection sampling, the operational and regulatory challenges of implementation, the outreach/in-reach efforts needed for acceptance and capacity building, and opportunities for harmonization. The purpose of the symposium is to bring together government agencies, researchers and analysts, industries and international organizations to collaborate in the development and implementation of risk based sampling methods for phytosanitary inspection. Symposium proceedings will be created as an enduring reference.

9. Potato: Revise the pest list for RSPM 3, Movement of potatoes into a NAPPO member country. Undertake the annual revision of the pest list.

Work to finalize the review of the existing RSPM 3, Movement of potatoes into a NAPPO member country, to align it with ISPM 33, Pest free potato (Solanum sp.) micropropagative material and minitubers for international trade, and discuss any adjustments required by NAPPO member countries. Review comments received from the country consultation of the draft revision and make adjustments as required.

Revise Annex 6, Pre-shipment testing for PVYN, while undertaking a full 5-year review of RSPM 3, Movement of potatoes into a NAPPO member country. Update the current Annex 6 of RSPM 3, based on the PVY TAG Science and Technology document finalized in 2013, while undertaking the 5-year review of RSPM 3.

10. Seeds: Develop harmonized criteria for evaluating phytosanitary seed treatments. Develop a discussion document providing a list of criteria for evaluating phytosanitary seed treatments, as well as the identification of data gaps and research needs where they may exist.

11. Foundational/Procedural documents: Revision/update of various foundational or procedural documents. In 2016, NAPPO's Advisory and Management Committee has been working to update various NAPPO foundational and procedural documents. On July 6, 2016, NAPPO's Executive Committee approved an updated version of NAPPO's Constitution and By-Laws as well as the 2016-2020 NAPPO Strategic Plan. Edits in the Constitution and By-Laws were minor in nature to update terms and practices and to streamline the document. The new Strategic Plan outlines how NAPPO will be guided by regional priorities, core goals, and focus over the next 5 years. The documents were signed during the 2016 NAPPO Annual Meeting.

The PPQ Deputy Administrator, as the official U.S. delegate to NAPPO, intends to participate in the adoption of these regional plant health standards and projects, including the work described above, once they are completed and ready for such consideration.

The information in this notice contains all the information available to us on NAPPO standards under development or consideration. For updates on meeting times and for information on the expert groups that may become available following publication of this notice, visit the NAPPO Web site or contact Ms. Patricia Abad (see FOR FURTHER INFORMATION CONTACT above). Information on official U.S. participation in NAPPO activities, including U.S. positions on standards being considered, may also be obtained from Ms. Abad. Those wishing to provide comments on any of the topics being addressed in the NAPPO work program may do so at any time by responding to this notice (see ADDRESSES above) or by transmitting comments through Ms. Abad.

Done in Washington, DC, this 14th day of November 2016.
Kevin Shea,
Administrator, Animal and Plant Health Inspection Service.

[FR Doc. 2016-27791 Filed 11-17-16; 8:45 am]

BILLING CODE 3410-34-P